DEPARTMENT OF COMMERCE

National Oceanic and Atmospheric Administration

[I.D. 081706F]

New England Fishery Management Council; Public Meetings

AGENCY: National Marine Fisheries Service (NMFS), National Oceanic and Atmospheric Administration (NOAA), Commerce.

ACTION: Notice; public meetings.

SUMMARY: The New England Fishery Management Council's (NEFMC) Herring Oversight and Advisory Panel along with the Atlantic States Marine Fisheries Commission (ASMFC) Section and Advisory Panel will meet to consider actions affecting New England fisheries in the exclusive economic zone (EEZ).

DATES: The meetings will be held in September 2006. For specific dates and times, see SUPPLEMENTARY INFORMATION.

ADDRESSES: The meetings will be held at the Sheraton Ferncroft, 50 Ferncroft Road, Danvers, MA; telephone: (978) 777-2500.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Agenda

Monday, September 11, 2006 - Joint NEFMC and ASMFC Advisory Panel Meeting, at 10 a.m.

1. Review alternatives under consideration for 2007-09 herring fishery specifications and additional background information/analysis.

2. Discuss 2007-09 specifications and develop joint advisory panel recommendations regarding: allowable biological catch (ABC), domestic annual harvesting (DAH), domestic annual processing (DAP), joint venture processing (JVP), total allowable level of foreign fishing (TALFF), border transfer (BT), U.S. at-sea processing (USAP), optimum yield (OY) and area-specific total allowable catches area-specific (TACs), Research Set-Asides (RSAs)and set-asides for fixed gear fisheries.

3. Discuss ASMFC-only issues for 2007-09 Fishery Specifications and develop Advisory Panel recommendations.

Tuesday, September 12, 2006 - Joint NEFMC Herring Oversight Committee and ASMFC Section Meeting, at 9 a.m.

1. Review alternatives under consideration for 2007-09 fishery specifications and additional background information/analysis.

2. Receive report from Joint Herring Advisory Panel meeting and summary of panel's recommendations.

3. Discuss Amendment 1 submission status and related issues.

4. Discuss 2007-09 specifications and develop Herring Committee and Section recommendations regarding: ABC, DAH, DAP, JVP, TALFF, BT, USAP, OY, TACs, RSA and set-asides for fixed gear fisheries.

5. ASMFC Section: Discuss ASMFC-only issues for 2007-09 Fishery Specifications and develop recommendations.

Although non-emergency issues not contained in the agenda may come before these groups for discussion, those issues may not be the subject of formal action during these meetings. Action will be restricted to those issues specifically identified in this notice and any issues arising after publication of this notice that require emergency action under section 305(c) of the Magnuson-Stevens Fishery Conservation and Management Act, provided the public has been notified of the NEFMC's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: August 18, 2006.
Tracey L. Thompson,
Acting Director, Office of Sustainable Fisheries, National Marine Fisheries Service.

[FR Doc. E6-13989 Filed 8-23-06; 8:45 am]

BILLING CODE 3510-22-S